DEPARTMENT OF DEFENSE

Department of the Army, Corps of Engineers

Intent To Prepare an Environmental Impact Statement for Chehalis River Basin Flood Damage Reduction Project Proposed by the Chehalis River Basin Flood Control Zone District, Lewis County, WA

AGENCY: U.S. Army Corps of Engineers, DoD.

ACTION: Notice of Intent.

SUMMARY: The U.S. Army Corps of Engineers (Corps) Seattle District received a permit application from the Chehalis River Basin Flood Control Zone District (applicant) for the construction of a flood retention structure on the upper Chehalis River and the raising of levees at the Centralia-Chehalis Airport. A Department of the Army (DA) permit is required for the project pursuant to Section 404 of the Clean Water Act. The Corps has determined the proposed project may have significant individual and/or cumulative impacts on the human environment. An environmental impact statement (EIS) will be prepared in accordance with the National Environmental Policy Act (NEPA). Preparation of the EIS will support the Corps' eventual decision to either issue, issue with modification or deny the DA permit for the proposed action. The EIS will assess the potential social, economic, and environmental impacts of the projects and is intended to be sufficient in scope to address Federal, State, and local requirements, environmental and socio-economic issues concerning the proposed action, and permit reviews. The EIS process begins with the publication of this Notice of Intent. The EIS will be prepared according to the Corps' procedures for implementing NEPA, and consistent with the Corps' policy to facilitate public understanding and review of agency proposals. The Corps will serve as the lead federal agency for this EIS pursuant to the requirements of NEPA. The Washington State Department of Ecology (Ecology) will serve as the lead agency for the separate EIS pursuant to the requirements of the State Environmental Policy Act (SEPA). The Corps and Ecology have agreed to participate in joint scoping to simplify the public comment process for the two separate EISs.

DATES: The scoping period will start on September 28, 2018.

ADDRESSES: Written comments concerning the project and requests to be included on the EIS notification mailing list should be submitted to:

Anchor QEA, Care of: Chehalis River Basin Flood Control Zone District EIS, 720 Olive Way, Suite 1900, Seattle, Washington 98101.

Written comments regarding the scope of the EIS—including the environmental analysis, range of alternatives, and potential mitigation actions—should be received at this address or submitted by electronically at www.chehalisbasinstrategy.com/eis.

FOR FURTHER INFORMATION CONTACT: Ms. Janelle Leeson via email at: Janelle.D.Leeson@usace.army.mil, or at (206) 550-1425.

SUPPLEMENTARY INFORMATION:

1. Proposed Action. The construction of a new flood retention facility within the upper Chehalis River and the raising of levees at the Centralia-Chehalis Airport. The Corps is preparing an EIS to analyze the potential social, economic, and environmental impacts associated with authorizing the actions.

2. Project Description. The proposal involves the construction of a water retention facility at a site in the Chehalis River (River Mile [RM] 108.5) near the Town of Pe Ell, in Lewis County, Washington and the raising of levees at the Centralia-Chehalis Airport in the City of Chehalis, Lewis County, Washington to reduce damage from major flood events in the Chehalis Basin, Washington.

The applicant, funded by the Washington State capitol budget, is proposing construction of a flood retention expandable (FRE) facility and associated infrastructure on the main-stem Chehalis River south of the Town of Pe Ell. The facility would have capacity to provide 65,000 acre-feet of temporary flood storage during major floods; the Chehalis River would flow normally during regular conditions or small flood events. The top of the dam structure would be 1,220 feet long with a maximum structural height of up to 254 feet including 3 to 5 feet of freeboard for safety. The FRE facility is proposed to include a 210-foot-wide emergency spillway, discharging into a 70-foot-wide and 230-foot-long stilling basin.

The FRE facility would be constructed with a foundation and hydraulic structure extents capable of supporting future construction of a larger dam with up to 130,000 acre feet of storage. An expansion of the facility would be subject to a separate NEPA and SEPA process and permitting if proposed.

Construction of the flood retention structure would include the installation of a temporary diversion tunnel to accommodate fish passage during construction. Permanent fish passage would be accomplished primarily through five openings installed along the river bottom at the base of the flood retention structure. The openings would be 230 feet in length. They are anticipated to replicate the stream discharge and velocity rating curves exhibited by the natural channel at the dam site (through which fish currently pass without the dam), up through river discharges of 4,000 cubic feet per second (cfs). When water is impounded behind the dam during high-flow events, the low-level outlet would be closed. Fish passage would be provided via a collection, handling, transport, and release (CHTR) facility during the high-flow, short-term periods of time when the dam outlets are closed.

The applicant also proposes to raise the elevation of the Centralia-Chehalis Airport levee in Chehalis, Washington. The existing 9,511-foot-long-levee would be raised 4 to 7 feet, along with raising Airport Road 1,700 feet along the southern extent of the airport.

Potential impacts of the proposal have not been determined at this time. Mitigation for proposed unavoidable impacts to waters of the U.S. will be required to comply with the Corps' 2008 mitigation rule.

A full project description as provided by the applicant can be accessed electrically at www.chehalisbasinstrategy.com/eis.

3. Alternatives. The EIS will address an array of alternatives for providing alternatives suitable for reducing flood damage within the Chehalis River Basin, including a no action alternative. Mitigation measures may include, but are not limited to, avoidance of sensitive areas and creation, restoration, or enhancement of wetlands.

4. Scoping Process. The scoping period will continue for 31 days after publication of this Notice of Intent and will close on October 29, 2018. During the scoping period, the Corps invites Federal agencies, State and local governments, Native American Tribes, and the public to participate in the scoping process either by providing written comments or by attending the public scoping meetings scheduled at the time and location indicated below. Written comments will be considered in the preparation of the Draft EIS. Comments postmarked or received electronically after the specified date will be considered to the extent feasible.

The purpose of scoping is to assist the Corps in defining issues, public concerns, and alternatives and the depth to which they will be evaluated in the EIS. The Corps has prepared project information documents to familiarize agencies, Tribes, the public, and interested organizations with the proposed projects and potential environmental issues. Copies of the documents will be available at the public meeting and at the website www.chehalisbasinstrategy.com/eis or can be requested by contacting the Corps, Seattle District, as described above. Corps' representatives will answer scope-related questions and accept comments at public scoping meetings.

a. Public scoping meetings will be held to present an overview of the project and to afford all parties an opportunity to provide comments regarding the range of actions, alternatives, and potential impacts. The public scoping meetings will be held as follows:

At Montesano City Hall, Banquet Room, 112 North Main Street, Montesano, Washington 98563 on Tuesday, October 16, 2018 from 5:00 p.m. to 8:00 p.m.

At Centralia College, Bowman Rotary Banquet Rooms A and B, 600 Centralia College Boulevard, Centralia, Washington 98531 on Wednesday, October 17, 2018 from 5:00 p.m. to 8:00 p.m.

During the scoping period, continuous access to the scoping meeting presentation will be hosted on the EIS website at www.chehalisbasinstrategy.com/eis.

b. Potentially significant issues to be analyzed in the EIS include but are not limited to project-specific and cumulative effects on water resources; cultural, historic, and archaeological resources; geomorphology; geology including landslides and earthquakes; wetland and riparian habitat and wildlife; climate change; transportation; recreation; land use; Tribal resources, including Tribal treaty rights; environmental health and safety, and public services and utilities.

c. The Corps will serve as the lead agency for compliance with NEPA. The Corps has invited the U.S. Environmental Protection Agency, the Chehalis Tribe, and the Quinault Indian Nation to serve as cooperating agencies under NEPA. The Corps will consult with the Washington State Historic Preservation Officer and applicable Tribes to comply with the National Historic Preservation Act; and applicable Tribes to comply with treaty provisions.

d. Development of the draft EIS will begin after the close of the scoping period. The draft EIS is currently scheduled to be available for public review and comment in early 2020.

e. A 31-day public review period will be provided for all interested parties, individuals, and agencies to review and comment on the draft EIS. All interested parties are encouraged to respond to this notice and provide a current address if they wish to be notified when the draft EIS is issued.

f. All comments received will become part of the administrative record and are subject to public release, as appropriate, in their entirety, including any personally identifiable information such as names, phone numbers, and addresses if included in the comment.

Dated: September 19, 2018.
Ryan A. Baum,
Major, Corps of Engineers, Acting Commander.

[FR Doc. 2018-21154 Filed 9-27-18; 8:45 a.m.]

BILLING CODE 3720-58-P